DEPARTMENT OF COMMERCE

International Trade Administration

[A-583-827]

Static Random Access Memory Semiconductors From Taiwan; Amended Final Results of Antidumping Duty New Shipper Review

AGENCY: Import Administration, International Trade Administration, Department of Commerce.

EFFECTIVE DATE: April 18, 2000.

FOR FURTHER INFORMATION CONTACT: Shawn Thompson or Irina Itkin, AD/CVD Enforcement Group I, Office 2, Import Administration, International Trade Administration, U.S. Department of Commerce, 14th Street and Constitution Avenue, NW, Washington, DC 20230; telephone (202) 482-1776 or (202) 482-0656, respectively.

Applicable Statute and Regulations

Unless otherwise indicated, all citations to the Act are references to the provisions effective January 1, 1995, the effective date of the amendments made to the Act by the Uruguay Round Agreements Act (URAA). In addition, unless otherwise indicated, all citations to the Department's regulations are to 19 CFR part 351 (1999).

Amendment to Final Results

In accordance with section 751(a) of the Act, on March 8, 2000, the Department published the final results of the 1997-1998 new shipper review on static random access memory semiconductors (SRAMs) from Taiwan, in which we determined that U.S. sales of SRAMs from Taiwan were made at less than normal value (65 FR 12214). On March 13, 2000, we received an allegation, timely filed pursuant to 19 CFR 351.224(c)(2), from the petitioner, Micron Technology, Inc. (Micron), that the Department made a ministerial error in its final results. We did not receive comments from GSI Technology, Inc. (GSI Technology), the sole respondent.

After analyzing Micron's submission, we have determined, in accordance with 19 CFR 351.224, that a ministerial error was made in our final margin calculation for GSI Technology. Specifically, we find that we failed to properly apply the hierarchy for defining contemporaneous sales as set forth in 19 CFR 351.414(e)(2) when matching U.S. and home market sales. This resulted in our making certain non-contemporaneous comparisons for purposes of the final results.

In addition to the alleged error identified by Micron, we find that our calculations contained two additional ministerial errors which were not identified by any party to this proceeding. Specifically, we find that we overstated general and administrative (G&A) expenses by including research and development expenses in the costs to which the G&A rate was applied, and our calculation of the import value used to compute the assessment rate contained a mathematical error.

For a detailed discussion of the ministerial errors noted above, as well as the Department's analysis, see the memorandum to Louis Apple from the Team, dated April 11, 2000.

Therefore, in accordance with 19 CFR 351.224(e), we are amending the final results of the 1997-1998 antidumping duty new shipper review on SRAMs from Taiwan. The revised weight-averaged dumping margin is as follows:

Exporter/manufacturer | Original final margin percentage | Revised final margin percentage
GSI Technology | 7.38 | 9.05

Scope of the Review

The products covered by this review are synchronous, asynchronous, and specialty SRAMs from Taiwan, whether assembled or unassembled. Assembled SRAMs include all package types. Unassembled SRAMs include processed wafers or die, uncut die and cut die. Processed wafers produced in Taiwan, but packaged, or assembled into memory modules, in a third country, are included in the scope; processed wafers produced in a third country and assembled or packaged in Taiwan are not included in the scope. The scope of this review includes modules containing SRAMs. Such modules include single in-line processing modules, single in-line memory modules, dual in-line memory modules, memory cards, or other collections of SRAMs, whether unmounted or mounted on a circuit board. The scope of this review does not include SRAMs that are physically integrated with other components of a motherboard in such a manner as to constitute one inseparable amalgam (i.e., SRAMs soldered onto motherboards). The SRAMs within the scope of this review are currently classifiable under the subheadings 8542.13.8037 through 8542.13.8049, 8473.30.10 through 8473.30.90, and 8542.13.8005 of the Harmonized Tariff Schedule of the United States (HTSUS). Although the HTSUS subheadings are provided for convenience and customs purposes, the written description of the scope of this review is dispositive.

This administrative review and notice are in accordance with sections 751(a)(1) and 777(i) of the Act.

Dated: April 11, 2000.
Troy H. Cribb,
Acting Assistant Secretary for Import Administration.

[FR Doc. 00-9687 Filed 4-17-00; 8:45 am]

BILLING CODE 3510-DS-P